DEPARTMENT OF HOMELAND SECURITY

Federal Emergency Management Agency

44 CFR Part 67

[Docket ID FEMA-2011-0002; Internal Agency Docket No. FEMA-B-1230]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before February 27, 2012.

ADDRESSES: The corresponding preliminary Flood Insurance Rate Map (FIRM) for the proposed BFEs for each community is available for inspection at the community's map repository. The respective addresses are listed in the table below.

You may submit comments, identified by Docket No. FEMA-B-1230, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Unincorporated Areas of Tulare County, California
California | Unincorporated Areas of Tulare County | Lake Kaweah | Entire shoreline | None | +722
California | Unincorporated Areas of Tulare County | Middle Fork Kaweah River | Approximately 1.0 mile downstream of the South Fork Kaweah River confluence | +694 | +722
|  |  | Approximately 0.5 mile downstream of the South Fork Kaweah River confluence | +721 | +722
* National Geodetic Vertical Datum.
+ North American Vertical Datum.
# Depth in feet above ground.
‸ Mean Sea Level, rounded to the nearest 0.1 meter.
* * BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Unincorporated Areas of Tulare County
Maps are available for inspection at the Tulare County Planning Division, 411 East Kern Avenue, Tulare, CA 93274.
Unincorporated Areas of Chesterfield County Virginia
Virginia | Unicorporated Areas of Chesterfield County | Crooked Branch | At the upstream side of Centralia Road (State Route 145) | * 147 | * 148
|  |  | At the upstream side of Hollyberry Drive | * 172 | * 170
Virginia | Unincorporated Areas of Chesterfield County | Dry Creek | At the upstream side of Hull Street (U.S. Route 360 Westbound) | None | * 185
|  |  | Approximately 0.5 mile upstream of Hull Street (U.S. Route 360 Westbound) | None | * 185
Virginia | Unincorporated Areas of Chesterfield County | Great Branch (downstream) | At the Proctors Creek confluence | * 94 | * 91
|  |  | Approximately 500 feet upstream of Hamlin Creek Parkway | * 102 | * 103
Virginia | Unincorporated Areas of Chesterfield County | Great Branch (upstream) | Approximately 250 feet downstream of Chalkley Road | * 139 | * 141
|  |  | Approximately 1,450 feet upstream of Chalkley Road | * 148 | * 146
Virginia | Unincorporated Areas of Chesterfield County | Johnson Creek | At the downstream side of Allied Road (State Route 287) | * 9 | * 8
|  |  | Approximately 800 feet downstream of Spruce Avenue | * 18 | * 19
Virginia | Unincorporated Areas of Chesterfield County | Johnson Creek Tributary | At the Johnson Creek confluence | * 57 | * 55
|  |  | Approximately 320 feet upstream of East Hundred Road (State Route 10) | None | * 57
Virginia | Unincorporated Areas of Chesterfield County | Proctors Creek | Approximately 850 feet upstream of the Tributary 2 to Proctors Creek confluence | * 136 | * 137
|  |  | Approximately 1,200 feet upstream of State Route 288 Eastbound | * 177 | * 176
Virginia | Unincorporated Areas of Chesterfield County | Winterpock Creek | Approximately 1.0 mile downstream of River Road (State Route 602) | None | * 193
|  |  | Approximately 450 feet upstream of Beach Road (State Route 655) | None | * 240
* National Geodetic Vertical Datum.
+ North American Vertical Datum.
# Depth in feet above ground.
‸ Mean Sea Level, rounded to the nearest 0.1 meter.
* * BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Unincorporated Areas of Chesterfield County
Maps are available for inspection at 9800 Government Center Parkway, Chesterfield, VA 23832.

(Catalog of Federal Domestic Assistance No. 97.022, “Flood Insurance.”)

Dated: November 18, 2011.
Sandra K. Knight,
Deputy Associate Administrator for Mitigation, Department of Homeland Security, Federal Emergency Management Agency.

[FR Doc. 2011-30709 Filed 11-28-11; 8:45 am]

BILLING CODE 9110-12-P